DEPARTMENT OF AGRICULTURE

Rural Utilities Service

[Docket No. RUS-21-ELECTRIC-0017]

Notice of Request for Extension of a Currently Approved Information Collection

AGENCY: Rural Utilities Service, USDA.

ACTION: Notice; comment requested.

SUMMARY: In accordance with the Paperwork Reduction Act of 1995, this notice announces the intention of the above-named agency to request Office of Management and Budget's (OMB) approval for an extension of a currently approved information collection in support of RUS Extensions of Payments of Principal and Interest.

DATES: Comments on this notice must be received by July 11, 2022.

FOR FURTHER INFORMATION CONTACT: Susan Woolard, Management Analyst, Rural Development Innovation Center—Regulations Management Division, USDA, 1400 Independence Avenue SW, South Building, Washington, DC 20250-1522. Telephone: (202) 720-9631. Email susan.woolard@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an existing information collection that the Agency is submitting to OMB for extension.

Comments

Comments are invited on: (a) Whether this collection of information is necessary for the proper performance of the functions of the Agency, including whether the information will have practical utility; (b) The accuracy of the Agency's estimate of the burden of the collection of information including the validity of the methodology and assumptions used; (c) Ways to enhance the quality, utility, and clarity of the information to be collected; and (d) Ways to minimize the burden of the collection of information on those who respond, including through the use of appropriate automated, electronic, mechanical or other technological collection techniques, or other forms of information technology.

Comments may be sent by the Federal eRulemaking Portal: Go to http://www.regulations.gov and, in the lower “Search Regulations and Federal Actions” box, select “RUS” from the agency drop-down menu, then click on “Submit.” In the Docket ID column, select RUS-21-ELECTRIC-0017 to submit or view public comments and to view supporting and related materials available electronically. Information on using Regulations.gov, including instructions for accessing documents, submitting comments, and viewing the docket after the close of the comment period, is available through the site's “User Tips” link.

Title: 7 CFR part 1721, Extensions of Payments of Principal and Interest.

OMB Control Number: 0572-0123.

Type of Request: Extension of a currently approved collection.

Abstract: The Agency allows borrowers of loans made by RUS, under certain circumstances, to request extensions for the payment of principal and interest. The information collected under this package provides the information necessary for the Agency to make determinations of eligibility under section 12(a) of the Rural Electrification Act and section 236 of the Disaster Relief Act of 1970 (Pub. L. 91-606).

Estimate of Burden: Public reporting burden for this collection of information is estimated to average 7.625 hours per response.

Respondents: Businesses, not-for-profit institutions and others.

Estimated Number of Respondents: 3.

Total Annual Responses: 8.

Estimated Number of Responses per Respondent: 2.67.

Estimated Total Annual Burden on Respondents: 61 hours.

Copies of this information collection can be obtained from Susan Woolard, Management Analyst, Innovation Center—Regulations Management Division, at (202) 720-9631. Email: susan.woolard@usda.gov.

All responses to this notice will be summarized and included in the request for OMB approval. All comments will also become a matter of public record.

Christopher A. Mclean,
Acting Administrator, Rural Utilities Service.

[FR Doc. 2022-09978 Filed 5-9-22; 8:45 am]

BILLING CODE 3410-15-P